DEPARTMENT OF HEALTH AND HUMAN SERVICES

Centers for Disease Control and Prevention

[60Day-21-21HE; Docket No. CDC-2021-0081]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled One Health Case Investigation Form for Animals with SARS-CoV-2. This proposed information collection is designed to improve the scientific community's understanding of SARS-CoV-2 infections in animals.

DATES: CDC must receive written comments on or before October 12, 2021.

ADDRESSES: You may submit comments, identified by Docket No. CDC-2021-0081 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

One Health Case Investigation Form for Animals with SARS-CoV-2—New—National Center for Emerging and Zoonotic Infectious Diseases (NCEZID), Centers for Disease Control and Prevention (CDC).

Background and Brief Description

The proposed collection includes a standardized form that collects and compiles epidemiologic data on animals infected with SARS-CoV-2, including exposure history to people or other sources, clinical presentation, diagnostic testing data, and the risk the animal may pose of transmitting SARS-CoV-2 to human or animal hosts. The form is intended to guide state, tribal, local and territorial health officials conducting an epidemiological investigation when an animal with suspected or confirmed SARS-CoV-2 infection is identified. Data collected will focus primarily on animal subjects, and there is no Personal Identifiable Information (PII) requested on the form. Steps have been taken to minimize duplication of effort, including consultation with state, tribal, local, territorial, and federal partners (including USDA and FDA), and international agencies.

The epidemiological information on animals infected with SARS-CoV-2 that is collected will be used to refine guidance and recommendations, identify high-risk exposures and transmission events, and advance surveillance directives for future emerging infectious diseases. CDC requests approval for an estimated 1,000 annual burden hours. There is no cost to respondents other than their time to participate.

Estimated Annualized Burden Hours
Type of respondents | Form name | Number of respondents | Number of responses per respondent | Average burden per response (in hours) | Total burden (in hours)
State officials (state and local public health veterinarians and state animal health officials) | One Health Investigation Form-Animal Cases of SARS-CoV-2 | 50 | 20 | 1 | 1,000

Jeffrey M. Zirger,
Lead, Information Collection Review Office, Office of Scientific Integrity, Office of Science, Centers for Disease Control and Prevention.

[FR Doc. 2021-17352 Filed 8-12-21; 8:45 am]

BILLING CODE 4163-18-P